DEPARTMENT OF ENERGY

Fusion Energy Sciences Advisory Committee

AGENCY: Office of Science, Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Friday, July 17, 2015—3:00 p.m. to 5:00 p.m. EDT.

ADDRESSES: Teleconference. Instructions for access can be found on the FESAC's Web site at (http://science.energy.gov/fes/fesac/meetings/).

FOR FURTHER INFORMATION CONTACT: Edmund J. Synakowski, Designated Federal Officer, Office of Fusion Energy Sciences (FES); U.S. Department of Energy; 1000 Independence Avenue SW., Washington, DC 20585-1290, Telephone: (301) 903-4941.

SUPPLEMENTARY INFORMATION: Purpose of the Committee: To provide advice on a continuing basis to the Director, Office of Science of the Department of Energy, on the many complexes scientific and technical issues that arises in the development and implementation of the fusion energy sciences program.

Tentative Agenda Items:

• Presentation on and Discussion of the Report of the SNFA

• Vote on the Report of the SNFA

• Public Comment

• Adjourn

Note: Remote attendance of the FESAC meeting will be possible via ReadyTalk. Instructions can be found on the FESAC Web site (http://science.energy.gov/fes/fesac/meetings/) or by contacting Dr. Samuel J. Barish by email at: sam.barish@science.doe.gov or by phone at: (301) 903-2917.

Public Participation: The meeting is open to the public. If you would like to file a written statement with the Committee, you may do so either before or after the meeting. If you would like to make an oral statement regarding any of the items on the agenda, you should contact Dr. Samuel J. Barish at (301) 903-8584 (fax) or sam.barish@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 30 days on the Fusion Energy Sciences Advisory Committee's Web site at http://science.energy.gov/fes/fesac/.

Issued at Washington, DC, on June 11, 2015.
LaTanya R. Butler,
Deputy Committee Management Officer.

[FR Doc. 2015-14897 Filed 6-16-15; 8:45 am]

BILLING CODE 6450-01-P